DEPARTMENT OF TRANSPORTATION

Federal Railroad Administration

[Docket Number FRA-2012-0038]

Petition for Waiver of Compliance

In accordance with Part 211 of Title 49 Code of Federal Regulations (CFR), this document provides the public notice that by a document dated March 22, 2012, CSX Transportation (CSX) has petitioned the Federal Railroad Administration (FRA) seeking approval for the discontinuance or modification of a signal system. FRA has assigned the petition Docket Number FRA-2012-0038.

Applicant

Mr. David B. Olson, Chief Engineer Communications and Signals, CSX Transportation, 500 Water Street, Speed Code J-350, Jacksonville, FL 32202.

CSX seeks approval of the proposed modification of the signal system on the signaled siding between Holland and Waverly, Milepost (MP) CG 25.3 to MP CG 24.03, on the Grand Rapids Subdivision, Chicago Division.

The modification consist of the removal of the crossover and the signals, D243 and 6L, at MP 24.5 on the signaled siding; and the installation of a crossover and Signal Nos. 2, 4, 6, and 8 at MP 24.32, creating a double crossover at Waverly. The method of operation will be changed from CSX Rule ABS 261 to CSX Rule 46, Non-Controlled Track, on the siding from MP 24.32 to MP 25.3.

The reason given for the proposed change is to improve switching movements at Waverly Yard.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 1, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on April 11, 2012.
Ron Hynes,
Acting Deputy Associate Administrator for Regulatory and Legislative Operations.

[FR Doc. 2012-9126 Filed 4-16-12; 8:45 am]

BILLING CODE 4910-06-P